DEPARTMENT OF THE INTERIOR

National Park Service

[NPS-WASO-NAGPRA-NPS0035228; PPWOCRADN0-PCU00RP14.R50000]

Notice of Inventory Completion: Eastern Washington University, Cheney, WA

AGENCY: National Park Service, Interior.

ACTION: Notice.

SUMMARY: Eastern Washington University has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the Eastern Washington University. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Eastern Washington University at the address in this notice by March 3, 2023.

FOR FURTHER INFORMATION CONTACT: Kate Valdez, NAGPRA Coordinator, Eastern Washington University, 214 Showalter Hall, Cheney, WA 99004, telephone (509) 359-3116, email vvaldez6@ewu.edu.

SUPPLEMENTARY INFORMATION: Notice is here given in accordance with the Native American Graves Protection and Repatriation Act (NAGPRA), 25 U.S.C. 3003, of the completion of an inventory of human remains under the control of Eastern Washington University, Cheney, WA. The human remains were removed from Okanogan, Stevens, and Ferry Counties, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Eastern Washington University professional staff in consultation with representatives of the Confederated Tribes and Bands of the Yakama Nation and the Confederated Tribes of the Colville Reservation (hereafter referred to as “The Consulted Tribes”).

History and Description of the Remains

In 1908, human remains representing, at minimum, two individuals were removed from the town of Winthrop in Okanogan County, WA, by Captain Frank Lord. In 1910, the Burke Museum received the human remains from Captain Lord and accessioned them (Burke Accession #242). In 1992, these human remains were transferred to Eastern Washington University (EWU). In 2007, EWU determined that these human remains are Native American, based on the identification provided by the donor and most of the osteological evidence identified by physical anthropologists. Human remains belonging to other individuals from this site were published in a Federal Register Notice of Inventory Completion on March 15, 2007 and have been repatriated under NAGPRA. According to ethnographic documentation, the Methow Tribe aboriginally occupied the Winthrop area (Miller 1998; Mooney 1896; Ray 1936; Spier 1936). The Methow Tribe is a constituent member of the Confederated Tribes of the Colville Reservation. No known individuals were identified. No associated funerary objects are present.

Possibly in the 1930s, human remains representing, at minimum, one individual were removed from the town of Marcus, near Kettle Falls, in Stevens County, WA, by either the Ball and Dodd Cemetery Relocation Project or the Columbia Basin Archaeological Survey project. The human remains most likely were removed during the construction of Grand Coulee Dam or during several local construction projects in the Marcus vicinity prior and during the Dam's construction. Initially, these human remains were accessioned by the Eastern Washington State Historical Society (EWSHS). On April 3, 1987, they were transferred to EWU. Based on geographical documentation, the human remains of this individual are Native American. Historically, Kettle Falls and the nearby town of Marcus served as an important fishing and trading center for Native Americans (Ruby and Brown 1986:36). Based on expert information presented by a representative of the Confederated Tribes of the Colville Reservation, this site lies within that Indian Tribe's traditional territory. The sx̌ʷý65px (Colville) lived around the Columbia River northward from the mouth of the Spokane River, reaching past Christina Lake in British Columbia. To the east, the sx̌ʷý65px occupied the Colville River Valley, and in the west, their boundaries extended to the Frosty Meadows area. Ethnographic sources identify Kettle Falls as an area associated with either the Colville or the Lakes Tribes or Bands (Kennedy and Bouchard 1998; Mooney 1896; Ray 1936; Spier 1936; Swanton 1952), both of which are among the 12 constituent Tribes that comprise the Confederated Tribes of the Colville Reservation. No known individual was identified. No associated funerary objects are present.

Sometime prior to 1961, human remains representing, at minimum, one individual were removed from the city of Oroville in Okanogan County, WA. Based on a letter found with the human remains, University of Washington Assistant Professor, Dr. Robert Greengo, received the human remains from Mrs. John Harper, an Oroville resident, who had found the human remains in an ash level at least four feet below the surface of the ground. At some unknown date, though likely when Dr. Greengo became curator at the Burke Museum, the human remains were brought to the Burke Museum. In 1992, they were transferred to EWU. Based on geographical documentation and dentition condition, the human remains of this individual are Native American. Ethnographic documentation identifies the Okanogan as aboriginally occupying the drainage system of the Okanogan River in north central Washington and now-adjacent British Columbia (Spier 1938). The Okanogan Tribe is a constituent member of the Confederated Tribes of the Colville Reservation. No known individual was identified. No associated funerary objects are present.

Between 1939 and 1940, human remains representing, at minimum, 15 individuals were removed from multiple sites in the upper Columbia River in Ferry County, WA, by Donald Collier, Alfred E. Hudson, and Arlo Ford as part of an archeological project conducted during the construction of the Grand Coulee Dam and the resulting reservoir, Lake Roosevelt. That project, known variously as “The Columbia Basin Archaeological Survey” or the Collier, Hudson, and Ford Project (CHF), was a multi-institutional venture of the EWSHS (now the Northwest Museum of Arts & Culture), the University of Washington, and the State College of Washington (now Washington State University). Multiple federal agencies also were involved, including the Bureau of Reclamation, Bureau of Indian Affairs, Civilian Conservation Corps, and the Works Project Administration (including the National Youth Administration). In 1940, the Eastern Washington State Historical Society became the repository for the project's collections (Accn. 1027). Collier, Hudson, and Ford's work was published by the University of Washington Press, in cooperation with EWSHS and the State College of Washington, in 1942. On April 3, 1987, these human remains were transferred to EWU. Based on the geographical, ethnographic, archeological, and oral traditional information, these human remains are Native American. Ethnographic sources identify the Upper Columbia as an area associated with the Colville and the Lakes Tribes (Kennedy and Bouchard 1998; Mooney 1896; Ray 1936; Spier 1936; Swanton 1952). The Upper Columbia region has been occupied for a millennium, during which the sxʷý65px (Colville) lived on the Columbia River from the mouth of the Spokane River northward to present-day British Columbia. In the east, the sxʷý65px occupied the Colville River Valley, and in the west their boundaries extended to the Frosty Meadows area. The sń;aýckstx (Lakes) territory centered around the upper Columbia River, possibly reaching as far north as the “Big Bend” of the Columbia, north of Revelstoke in British Columbia. The sń;aýckstx territory also extended east to Trout Lake and the western edge of Kootenay Lake. The southern limit of the sń;aýckstx land is found near Northport, though many also fished at Kettle Falls. The Colville and the Lakes Tribes are constituent members of the Confederated Tribes of the Colville Reservation. No known individuals were identified. No associated funerary objects are present.

Determinations Made by the Eastern Washington University

Officials of the Eastern Washington University have determined that:

• Pursuant to 25 U.S.C. 3001(9), the human remains described in this notice represent the physical remains of 19 individuals of Native American ancestry.

• Pursuant to 25 U.S.C. 3001(2), there is a relationship of shared group identity that can be reasonably traced between the Native American human remains and associated funerary objects and the Confederated Tribes of the Colville Reservation.

Additional Requestors and Disposition

Lineal descendants or representatives of any Indian Tribe or Native Hawaiian organization not identified in this notice that wish to request transfer of control of these human remains should submit a written request with information in support of the request to Kate Valdez, NAGPRA Coordinator, Eastern Washington University, 214 Showalter Hall, Cheney, WA 99004, telephone (509) 359-3116, email vvaldez6@ewu.edu, by March 3, 2023. After that date, if no additional requestors have come forward, transfer of control of the human remains to the Confederated Tribes of the Colville Reservation may proceed.

Eastern Washington University is responsible for notifying The Consulted Tribes that this notice has been published.

Dated: January 25, 2023.
Melanie O'Brien,
Manager, National NAGPRA Program.

[FR Doc. 2023-02060 Filed 1-31-23; 8:45 am]

BILLING CODE 4312-52-P